DEPARTMENT OF THE INTERIOR

Bureau of Land Management

[16X21109AF LLUT92000 L13100000 FI0000 25-7A]

Notice of Proposed Class II Reinstatement of Terminated Oil and Gas Lease UTU87659, Utah

AGENCY: Bureau of Land Management, Interior.

ACTION: Notice.

SUMMARY: In accordance with Mineral Leasing Act of 1920 as Amended, Flatirons Resources LLC filed a timely petition for reinstatement of oil and gas lease UTU87659 for lands in Grand County, Utah. The petition was accompanied by all required rentals and royalties accruing from January 1, 2016, the date of termination. No leases were issued that affect these lands. The Bureau of Land Management proposes to reinstate this lease.

FOR FURTHER INFORMATION CONTACT: Kent Hoffman, Deputy State Director, Lands and Minerals, Utah State Office, Bureau of Land Management, 440 West 200 South, Suite 500, Salt Lake City, Utah, 84101, phone (801) 539-4063, Email: khoffman@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The lessee has agreed to the new lease terms:

• Original term and conditions of the lease;

• Increased rental of $10 per acre;

• Increased royalty of 16-2/3 percent;

• $159 cost of publishing this Notice; and

• $500 cost of administrative fee.

The lease includes the following described lands in Grand County, Utah:

UTU87659

Salt Lake Meridian, Utah

T. 19 S, R 25 E,

Sec. 3, lots 1 to 3, S1/2NE1/4, SE1/4NW1/4, NE1/4SW1/4, SE1/4;

Sec. 4, lots 1 to 2, S1/2NE1/4, SE1/4;

Sec. 10, NE1/4NW1/4.

The area described contains 802.31 acres.

The lessee has met all the requirements for reinstatement of the lease per Section 31(d) and (e) of the Mineral Leasing Act of 1920 as Amended. The BLM is proposing to reinstate the lease 30 days following publication of the notice, with the effective date of January 1, 2016, subject to the:

Authority: 43 CFR 3108.2-3.

Edwin L. Roberson,
State Director.

[FR Doc. 2019-08342 Filed 4-24-19; 8:45 am]

BILLING CODE 4310-DQ-P